FEDERAL COMMUNICATIONS COMMISSION

47 CFR Part 73

[DA-00-890, MM Docket No. 00-68, RM-9854]

Digital Television Broadcast Service; Norfolk, VA

AGENCY: Federal Communications Commission.

ACTION: Proposed rule.

SUMMARY: The Commission requests comments on a petition filed by WTKR-TV, Inc. licensee of station WTKR-TV, NTSC Channel 3, Norfolk, Virginia, requesting the substitution of DTV Channel 40 for station WTKR-TV's assigned DTV Channel 58. DTV Channel 40 can be allotted to Norfolk, Virginia, in compliance with the principle community coverage requirements of Section 73.625(a) at reference coordinates 36-48-56 N. and 76-28-00 W. As requested, we propose to allot DTV Channel 40 to Norfolk with a power of 1000 (kW) and a height above average terrain (HAAT) of 313 meters.

DATES: Comments must be filed on or before June 12, 2000, and reply comments on or before June 27, 2000.

ADDRESSES: Federal Communications Commission, 445 12th Street, S.W., Room TW-A325, Washington, DC 20554. In addition to filing comments with the FCC, interested parties should serve the petitioner, or its counsel or consultant, as follows: Arthur B Goodkind, Koteen & Naftalin, L.L.P., 1150 Connecticut Avenue, NW, Suite 1000, Washington, DC 20036 (Counsel for WTKR-TV, Inc.).

FOR FURTHER INFORMATION CONTACT: Pam Blumenthal, Mass Media Bureau, (202) 418-1600.

SUPPLEMENTARY INFORMATION: This is a synopsis of the Commission's Notice of Proposed Rule Making, MM Docket No. 00-68, adopted April 19, 2000, and released April 21, 2000. The full text of this Commission decision is available for inspection and copying during normal business hours in the FCC Reference Center 445 12th Street, S.W., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Digital television broadcasting.

Federal Communications Commission.
Barbara A. Kreisman,
Chief, Video Services Division, Mass Media Bureau.

[FR Doc. 00-10542 Filed 4-26-00; 8:45 am]

BILLING CODE 6712-01-P